OFFICE OF PERSONNEL MANAGEMENT

January 2009 Pay Adjustments

AGENCY: U.S. Office of Personnel Management.

ACTION: Notice.

SUMMARY: The President adjusted the rates of basic pay and locality payments for certain categories of Federal employees effective in January 2009. This notice documents those pay adjustments for the public record.

FOR FURTHER INFORMATION CONTACT: Tameka Gillis, Center for Pay and Leave Administration, Division for Strategic Human Resources Policy, U.S. Office of Personnel Management; (202) 606-2858; FAX (202) 606-0824; or e-mail to pay-performance-policy@opm.gov.

SUPPLEMENTARY INFORMATION: On December 18, 2008, the President signed Executive Order 13483 (73 FR 78587), which implemented the January 2009 pay adjustments. The President made these adjustments consistent with Public Law 110-329, September 30, 2008, which authorized an overall average pay increase of 3.9 percent for the “statutory pay systems,” including the General Schedule (GS).

Schedule 1 of Executive Order 13483 provides the rates for the 2009 General Schedule and reflects a 2.9 percent across-the-board increase. Executive Order 13483 also includes the percentage amounts of the 2009 locality payments. (See Section 5 and Schedule 9 of Executive Order 13483.)

The publication of this notice satisfies the requirement in section 5(b) of Executive Order 13483 that the U.S. Office of Personnel Management (OPM) publish appropriate notice of the 2009 locality payments in the Federal Register.

GS employees receive locality payments under 5 U.S.C. 5304. Locality payments apply in the continental United States (as defined in 5 CFR 531.602 to include the several States and the District of Columbia, but not Alaska or Hawaii). In 2009, locality payments ranging from 13.86 percent to 34.35 percent apply to GS employees in 32 locality pay areas. (The 2009 locality pay area definitions can be found at http://www.opm.gov/oca/09tables/locdef.asp.) These 2009 locality pay percentages, which replaced the 2008 locality pay percentages, became effective on the first day of the first pay period beginning on or after January 1, 2009 (January 4, 2009). An employee's locality rate of pay is computed by increasing his or her scheduled annual rate of pay (as defined in 5 CFR 531.602) by the applicable locality pay percentage. (See 5 CFR 531.604 and 531.609.)

Executive Order 13483 establishes the new Executive Schedule, which incorporates a 2.8 percent increase required under 5 U.S.C. 5318 (rounded to the nearest $100). By law, Executive Schedule officials are not authorized to receive locality payments.

Executive Order 13483 establishes the range of rates of basic pay for senior executives in the Senior Executive Service (SES), as established pursuant to 5 U.S.C. 5382. The minimum rate of basic pay for the SES may not be less than the minimum rate payable under 5 U.S.C. 5376 for senior-level positions ($117,787 in 2009). The maximum rate of the SES rate range is level II of the Executive Schedule ($177,000 in 2009) for SES members covered by a certified SES performance appraisal system and level III of the Executive Schedule ($162,900 in 2009) for SES members covered by an SES performance appraisal system that has not been certified. By law, SES members are not authorized to receive locality payments. Agencies with certified performance appraisal systems in 2009 for senior executives and/or senior-level (SL) and scientific or professional (ST) positions also must apply a higher aggregate limitation on pay—up to the Vice President's salary ($227,300 in 2009).

The Executive order adjusted the rates of basic pay for administrative law judges (ALJs) by 2.9 percent, rounded to the nearest $100 (except for those at AL-1, which was increased by 2.8 percent consistent with the Executive Schedule increase). The maximum rate of basic pay for ALJs is set by law at the rate for level IV of the Executive Schedule, which is now $153,200. The rate of basic pay for AL-2 is $149,600. The rates of basic pay for AL-3/A through 3/F range from $102,400 to $141,600. (See 5 U.S.C. 5372.)

The rates of basic pay for members of Contract Appeals Boards are calculated as a percentage of the rate for level IV of the Executive Schedule. (See 5 U.S.C. 5372a.) Therefore, these rates of basic pay were increased by approximately 2.8 percent.

The maximum rate of basic pay for SL/ST positions was increased by approximately 2.8 percent (to $153,200) because it is tied to the rate for level IV of the Executive Schedule. The minimum rate of basic pay for SL/ST positions is equal to 120 percent of the minimum rate of basic pay for GS-15 and thus was increased by 2.9 percent (to $117,787). (See 5 U.S.C. 5376.) Note that beginning April 12, 2009, employees in SL/ST positions will begin receiving pay under the provisions of a new pay system established under the Senior Professional Performance Act of 2008 (Pub. L. 110-372, October 8, 2008). OPM will issue additional information on the new SL/ST pay system before April 12, 2009.

On October 27, 2008, the President's Pay Agent extended the 2009 locality-based comparability payments to certain categories of non-GS employees. The Governmentwide categories include ALJs and Contract Appeals Board members. The maximum locality rate of pay for these employees is the rate for level III of the Executive Schedule ($162,900 in 2009).

On December 18, 2008, OPM issued a memorandum (CPM 2008-22) on the January 2009 pay adjustments. (See http://www.opm.gov/oca/compmemo/index.asp.) The memorandum transmitted Executive Order 13483 and provided the 2009 salary tables, locality pay areas and percentages, and information on general pay administration matters and other related information. The “2009 Salary Tables” posted on OPM's Web site at http://www.opm.gov/oca/09tables/index.asp are the official rates of pay for affected employees and are hereby incorporated as part of this notice.

Office of Personnel Management.
Michael W. Hager,
Acting Director.

[FR Doc. E9-1643 Filed 1-23-09; 8:45 am]

BILLING CODE 6325-39-P